DEPARTMENT OF HOUSING AND URBAN DEVELOPMENT

[Docket No. FR-5831-N-23]

30-Day Notice of Proposed Information Collection: Consolidated Plan and Annual Performance Report

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: June 17, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on March 9, 2015 at 80 FR 12519.

A. Overview of Information Collection

Title of Information Collection: Consolidated Plan and Annual Performance Report.

OMB Approval Number: 2506-0117.

Type of Request: Extension.

Form Numbers: N/A.

Description of the need for the information and proposed use: The Departments collection of this information is in compliance with statutory provisions of the Cranston Gonzalez National Affordable Housing Act of 1990 that requires participating jurisdictions to submit a Comprehensive Housing Affordability Strategy (Section 105(b)); the 1974 Housing and Community Development Act, as amended, that requires states and localities to submit a Community Development Plan (Section 104(b)(4) and Section 104(m)); and statutory provisions of these Acts that requires states and localities to submit applications and reports for these formula grant programs. The information is needed to provide HUD with preliminary assessment as to the statutory and regulatory eligibility of proposed grantee projects for informing citizens of intended uses of program funds. HUD is revising components of the Integrated Disbursement and Information System (IDIS) to be in accordance with federal financial standards and Annual Appropriation Acts for the CDBG program. The revisions will affect the portion of the system used to demonstrate compliance with the 1974 Housing and Community Development Act, as amended, specifically the obligation and expenditure of CDBG grant funds. Obligations and expenditures of CDBG grant funds will be modified to be grant-specific, rather than cumulative.

Respondents (describe): States and local governments participating in the Community Development Block Grant Program (CDBG), the Home investment Partnership Program (HOME), the Emergency Solutions Grants Program (ESG) or the Housing Opportunities for Persons with AIDS/HIV Program (HOPWA).

Estimated Number of Respondents: 1,205 localities and 50 states.

Estimated Number of Responses: Consolidated Plan & Performance Reports: 2,410 localities, 100 states.*

Grant—Specific Accounting: 10,845 localities, 1900 states.

Frequency of Response: 1.

Average Hours per Response: 1,028 (localities), .84 (states),

Total Estimated Burdens: 395,973.**

*Includes combined Consolidated Plan and Annual Action Plan and separate performance report.

**Includes hours for 100 localities to submit abbreviated plans,

Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: May 13, 2015.
Colette Pollard,
Department Reports Management Officer, Office of the Chief Information Officer.

[FR Doc. 2015-11995 Filed 5-15-15; 8:45 am]

BILLING CODE 4210-67-P